NUCLEAR REGULATORY COMMISSION

[NRC-2026-0661]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by March 19, 2026. A request for a hearing or petitions for leave to intervene must be filed by April 20, 2026. This monthly notice includes all amendments issued, or proposed to be issued, from January 1, 2026, to January 29, 2026. The last monthly notice was published on January 20, 2026.

ADDRESSES: You may submit comments by any of the following methods; however, the NRC encourages electronic comment submission through the Federal rulemaking website.

• Federal rulemaking website: Go to https://www.regulations.gov and search for Docket ID NRC-2026-0661. Address questions about Docket IDs in Regulations.gov to Bridget Curran; telephone: 301-415-1003; email: Bridget.Curran@nrc.gov. For technical questions, contact the individual(s) listed in the FOR FURTHER INFORMATION CONTACT section of this document.

• Mail comments to: Office of Administration, Mail Stop: TWFN-5-A85, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001; telephone: 301-415-1118; email: Karen.Zeleznock@nrc.gov.

SUPPLEMENTARY INFORMATION:

I. Obtaining Information and Submitting Comments

A. Obtaining Information

Please refer to Docket ID NRC-2026-0661, facility name, unit number(s), docket number(s), application date, and subject when contacting the NRC about the availability of information for this action. You may obtain publicly available information related to this action by any of the following methods:

• Federal Rulemaking Website: Go to https://www.regulations.gov and search for Docket ID NRC-2026-0661.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2026-0661, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the license amendment request involves no significant hazards consideration, the Commission may issue the amendment and make it immediately effective, notwithstanding the request for a hearing. Any hearing would take place after issuance of the amendment. If the final determination is that the license amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or designated agency thereof, may participate as a non-party under 10 CFR 2.315(c).

For information about filing a petition and about participation by a person not a party under 10 CFR 2.315, see ADAMS Accession No. ML20340A053 (https://adamswebsearch2.nrc.gov/webSearch2/main.jsp?AccessionNumber=ML20340A053) and the NRC's public website (https://www.nrc.gov/about-nrc/regulatory/adjudicatory/hearing.html#participate).

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056), and on the NRC's public website (https://www.nrc.gov/site-help/e-submittals.html).

To comply with the procedural requirements of E-Filing, at least 10 days prior to the filing deadline, the participant should contact the Office of the Secretary by email at Hearing.Docket@nrc.gov, or by telephone at 301-415-1677, to: (1) request a digital identification (ID) certificate which allows the participant (or their counsel or representative) to digitally sign submissions and access the E-Filing system for any proceeding in which it is participating; and (2) advise the Secretary that the participant will be submitting a petition or other adjudicatory document (even in instances in which the participant, or their counsel or representative, already holds an NRC-issued digital ID certificate). Based upon this information, the Secretary will establish an electronic docket for the proceeding if the Secretary has not already established an electronic docket.

Information about applying for a digital ID certificate is available on the NRC's public website (https://www.nrc.gov/site-help/e-submittals/getting-started.html). After a digital ID certificate is obtained and a docket is created, the participant must submit adjudicatory documents in the Portable Document Format. Guidance on submissions is available on the NRC's public website (https://www.nrc.gov/site-help/electronic-sub-ref-mat.html). A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed in order to obtain access to the documents via the E-Filing system.

A person filing electronically using the NRC's adjudicatory E-Filing system may seek assistance by contacting the NRC's Electronic Filing Help Desk through the “Contact Us” link located on the NRC's public website (https://www.nrc.gov/site-help/e-submittals.html), by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available on the NRC's public website (https://adams.nrc.gov/ehd), unless otherwise excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Arizona Public Service Company, et al; Palo Verde Nuclear Generating Station, Units 1, 2, and 3; Maricopa County, AZ
Docket Nos | 50-528, 50-529, 50-530.
Application date | October 15, 2025.
ADAMS Accession No | ML25290A000.
Location in Application of NSHC | Pages 4-5 of the Enclosure.
Brief Description of Amendments | The proposed amendments would relocate select Unit Staff Qualifications from Technical Specification Section 5.3.1 to the Quality Assurance Program Document.
Proposed Determination | NSHC.
Name of Attorney for Licensee, Mailing Address | Carey Fleming, Senior Counsel, Pinnacle West Capital Corporation, 500 N 5th Street, MS 8695, Phoenix, AZ 85004.
NRC Project Manager, Telephone Number | William Orders, 301-415-3329.
Constellation Energy Generation, LLC; Clinton Power Station, Unit No. 1; DeWitt County, IL; Constellation Energy Generation, LLC; Dresden Nuclear Power Station, Units 2 and 3; Grundy County, IL; Constellation Energy Generation, LLC; LaSalle County Station, Units 1 and 2; LaSalle County, IL; Constellation Energy Generation, LLC; Peach Bottom Atomic Power Station, Units 2 and 3; York County, PA; Constellation Energy Generation, LLC; Quad Cities Nuclear Power Station, Units 1 and 2; Rock Island County, IL
Docket Nos | 50-461, 50-237, 50-249, 50-373, 50-374, 50-277, 50-278, 50-254, 50-265.
Application date | December 23, 2025.
ADAMS Accession No | ML25357A073 (Package).
Location in Application of NSHC | (ML25357A075) Section 4.3 of Attachment 1a (Clinton); Section 4.3 of Attachment 1b (Dresden); Section 4.3 of Attachment 1c (LaSalle); Section 4.3 of Attachment 1d (Peach Bottom, Unit 2); Section 4.3 of Attachment 1e (Peach Bottom Unit 3); Section 4.3 of Attachment 1f (Quad Cities).
Brief Description of Amendments | The proposed amendments would revise the technical specifications at each facility to eliminate the requirement for automatic main steam line (MSL) isolation based on the temperature in the area around the MSL. In lieu of automatic isolation, a new specification, “Main Steam Line (MSL) Area Temperature,” is proposed that requires manual action when the MSL area temperature is above the limit.
Proposed Determination | NSHC.
Name of Attorney for Licensee, Mailing Address | Jason Zorn, Associate General Counsel, Constellation Energy Generation, LLC 4300 Winfield Road Warrenville, IL 60555.
NRC Project Manager, Telephone Number | Scott Wall, 301-415-2855.
Dominion Energy South Carolina, Inc.; Virgil C. Summer Nuclear Station, Unit 1, Fairfield County, SC
Docket No | 50-395.
Application date | March 20, 2025.
ADAMS Accession No | ML25079A198.
Location in Application of NSHC | Pages 16-19 of Attachment 1.
Brief Description of Amendment | The proposed amendment would modify Technical Specification 6.8.4.g, “Containment Leakage Rate Testing Program,” to replace the reference to Nuclear Energy Institute (NEI) Technical Report 94-01, Revision 2-A, with NEI Technical Report 94-01, Revision 3-A and conditions and limitations specified in NEI-94-01, Revision 2-A, as described in the submittal.
Proposed Determination | NSHC.
Name of Attorney for Licensee, Mailing Address | W.S. Blair, Senior Counsel, Dominion Energy Services, Inc., 120 Tredegar St., RS-2, Richmond, VA 23219.
NRC Project Manager, Telephone Number | G. Ed Miller, 301-415-2481.
Nebraska Public Power District; Cooper Nuclear Station; Nemaha County, NE
Docket No | 50-298.
Application date | October 23, 2025.
ADAMS Accession No | ML25300A005.
Location in Application of NSHC | Pages 2-3 of Attachment 1.
Brief Description of Amendment | The proposed amendment would revise technical specifications (TSs) to adopt Technical Specifications Task Force (TSTF) Traveler TSTF-597, “Eliminate LCO [Limiting Condition for Operation] 3.0.3 Mode 2 Requirement,” under the Consolidated Line Item Improvement Process, which is an approved change to the TSs. TSTF-597 would revise LCO 3.0.3 to eliminate the requirement to enter Mode 2.
Proposed Determination | NSHC.
Name of Attorney for Licensee, Mailing Address | John C. McClure, Executive Vice President External Affairs and General Counsel Nebraska Public Power District, P.O. Box 499, Columbus, NE 68601.
NRC Project Manager, Telephone Number | Thomas Byrd, 301-415-3719.
PSEG Nuclear LLC; Salem Nuclear Generating Station, Unit Nos. 1 and 2; Salem County, NJ
Docket Nos | 50-272, 50-311.
Application date | October 16, 2025.
ADAMS Accession No | ML25290A331.
Location in Application of NSHC | Pages 10-12 of the Enclosure.
Brief Description of Amendments | The proposed amendments to the operating licenses and technical specifications for the Salem Nuclear Generating Station, Unit Nos. 1 and 2 would revise emergency diesel generator (EDG) starting and load-run test surveillance requirements and required actions for EDGs when certain equipment is inoperable.
Proposed Determination | NSHC.
Name of Attorney for Licensee, Mailing Address | Francis Romano, PSEG—Services Corporation, 80 Park Plaza, T-10, Newark, NJ 07102.
NRC Project Manager, Telephone Number | Audrey Klett, 301-415-0489.
Southern Nuclear Operating Company, Inc.; Edwin I. Hatch Nuclear Plant, Units 1 and 2; Appling County, GA
Docket Nos | 50-321, 50-366.
Application date | December 5, 2025.
ADAMS Accession No | ML25339A156.
Location in Application of NSHC | Pages E-2 and E-3 of the enclosure.
Brief Description of Amendments | The proposed amendments request adoption of Technical Specification Task Force 576, Revision 3, “Revise Safety/Relief Valve Requirements.” The proposed changes revise the Safety/Relief Valve Technical Specification to align the overpressure protection requirements with the safety limits and the regulations.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 3 and 4; Burke County, GA
Docket Nos | 52-025, 52-026.
Application date | December 19, 2025.
ADAMS Accession No | ML25353A617.
Location in Application of NSHC | Pages E-16 and E-17.
Brief Description of Amendments | The license amendments request proposes a change to the technical specifications (TSs) to revise the Applicability for the manual controls in TS 3.3.9, Engineered Safety Feature Actuation System (ESFAS) Manual Actuation Instrumentation and TS 3.3.19, Diverse Actuation System (DAS) Manual Controls, to enhance the alignment of the applicable modes for the manual functions with the applicable modes for the associated system.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 3 and 4; Burke County, GA
Docket Nos | 52-025, 52-026.
Application date | December 22, 2025.
ADAMS Accession No | ML25356A362.
Location in Application of NSHC | Pages E-5 to E-7.
Brief Description of Amendments | The proposed amendments would revise Technical Specification (TS) 3.4.10, “Reactor Coolant System (RCS) Specific Activity,” to adopt changes similar to those that are described in Technical Specification Task Force 490, Revision 0, “Deletion of E Bar Definition and Revision to RCS Specific Activity Tech Spec.”
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Susquehanna Nuclear, LLC and Allegheny Electric Cooperative, Inc.; Susquehanna Steam Electric Station, Units 1 and 2; Luzerne County, PA
Docket Nos | 50-387, 50-388.
Application date | December 3, 2025.
ADAMS Accession No | ML25337A031.
Location in Application of NSHC | Pages 2-4 of the Enclosure.
Brief Description of Amendments | The proposed amendments to Susquehanna Steam Electric Station, Units 1 and 2, would adopt Technical Specification Task Force-599 which eliminates the periodic Surveillance Requirement to verify that all required diesel generators achieve rated frequency and voltage within the specified time period when started simultaneously.
Proposed Determination | NSHC.
Name of Attorney for Licensee, Mailing Address | Jason Usher, 600 Hamilton Street, Suite 600, Allentown, PA 18101.
NRC Project Manager, Telephone Number | Thomas Buffone, 301-415-1136.
Tennessee Valley Authority; Browns Ferry Nuclear Plant, Units 1, 2, and 3; Limestone County, AL
Docket Nos | 50-259, 50-260, 50-296.
Application date | December 3, 2025.
ADAMS Accession No | ML25338A084.
Location in Application of NSHC | Pages E3 to E5 of the Enclosure.
Brief Description of Amendments | The proposed amendments would revise Browns Ferry Nuclear Plant, Units 1, 2, and 3, Technical Specification 3.3.5.1, “Emergency Core Cooling System,” by adoption of Technical Specifications Task Force (TSTF) Traveler TSTF-592-A, Revision 2, “Revise Automatic Depressurization System (ADS) Instrumentation Requirements.”
Proposed Determination | NSHC.
Name of Attorney for Licensee, Mailing Address | Rebecca Tolene (Acting), Executive VP and General Counsel Tennessee Valley Authority 400 West Summit Hill Drive WT 6A Knoxville, TN 37902.
NRC Project Manager, Telephone Number | Kimberly Green, 301-415-1627.
Vistra Operations Company LLC; Beaver Valley Power Station, Units 1 and 2; Beaver County, PA
Docket Nos | 50-334, 50-412.
Application date | October 6, 2025.
ADAMS Accession No | ML25280A001.
Location in Application of NSHC | Pages 6-8 of the Enclosure.
Brief Description of Amendment | The proposed amendments would modify the technical specifications (TSs) for Beaver Valley Power Station, Unit Nos. 1 and 2. The proposed amendments would revise TS Section 5.7, “High Radiation Area,” consistent with NRC-approved TS Task Force (TSTF) Traveler 258 (TSTF-258-A), Revision 4, “Changes to Section 5.0, Administrative Controls.”
Proposed Determination | NSHC.
Name of Attorney for Licensee, Mailing Address | Roland Backhaus, Senior Lead Counsel-Nuclear, Vistra Corp., 325 7th Street NW, Suite 520, Washington, DC 20004.
NRC Project Manager, Telephone Number | V. Sreenivas, 301-415-2597.
Vistra Operations Company LLC; Perry Nuclear Power Plant, Unit 1; Lake County, OH
Docket No | 50-440.
Application date | December 18, 2025.
ADAMS Accession No | ML26012A004.
Location in Application of NSHC | Pages 2-4 of the Enclosure.
Brief Description of Amendment | The proposed amendment would revise the technical specifications for Perry Nuclear Power Plant based on Technical Specifications Task Force (TSTF) Traveler TSTF 576, Revision 3, “Revise Safety/Relief Valve Requirements.”
Proposed Determination | NSHC.
Name of Attorney for Licensee, Mailing Address | Roland Backhaus, Senior Lead Counsel-Nuclear, Vistra Corp., 325 7th Street NW, Suite 520, Washington, DC 20004.
NRC Project Manager, Telephone Number | Scott Wall, 301-415-2855.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Arizona Public Service Company, et al; Palo Verde Nuclear Generating Station, Units 1, 2, and 3; Maricopa County, AZ
Docket Nos. | 50-528, 50-529, 50-530.
Amendment Date | January 5, 2026.
ADAMS Accession No. | ML25346A012.
Amendment Nos. | 227 (Unit 1), 227 (Unit 2), and 227 (Unit 3).
Brief Description of Amendments | The amendments consisted of changes to the Palo Verde Nuclear Generating Station, Units 1, 2, and 3 (PVNGS) Emergency Plan, which revised the staffing requirement for the Shift Manager/Emergency Coordinator position in the PVNGS Emergency Plan along with staff augmentation times to 120 minutes for both normal and off normal timeframes.
Public Comments Received as to Proposed NSHC (Yes/No) | No.
Constellation Energy Generation, LLC; Braidwood Station, Units 1 and 2, Will County, IL; Byron Station, Unit Nos. 1 and 2, Ogle County, IL; Constellation Energy Generation, LLC; Clinton Power Station, Unit No. 1; DeWitt County, IL; Constellation Energy Generation, LLC; Dresden Nuclear Power Station, Units 2 and 3; Grundy County, IL; Constellation Energy Generation, LLC; LaSalle County Station, Units 1 and 2; LaSalle County, IL; Constellation Energy Generation, LLC; Limerick Generating Station, Units 1 and 2; Montgomery County, PA; Constellation Energy Generation, LLC; Peach Bottom Atomic Power Station, Units 2 and 3; York County, PA; Constellation Energy Generation, LLC; Quad Cities Nuclear Power Station, Units 1 and 2; Rock Island County, IL; Nine Mile Point Nuclear Station, LLC and Constellation Energy Generation, LLC; Nine Mile Point Nuclear Station, Unit 2; Oswego County, NY
Docket Nos. | 50-456, 50-457, 50-454, 50-455, 50-461, 50-237, 50-249, 50-373, 50-374, 50-352, 50-353, 50-410, 50-277, 50-278, 50-254, 50-265.
Amendment Date | January 6, 2026.
ADAMS Accession No. | ML25351A217.
Amendment Nos. | 244 (Braidwood Unit 1); 244 Braidwood Unit 2); 242 (Byron Unit No. 1); 242 (Byron Unit No. 2); 258 (Clifton); 288 (Dresden Unit 2); 281 (Dresden Unit 3); 266 (LaSalle Unit 1); 251 (LaSalle Unit 2); 269 (Limerick Unit 1); 231 (Limerick Unit 2); 200 (Nine Mile Unit 2); 347 (Peach Bottom Unit 2); 350 (Peach Bottom Unit 3); 303 (Quad Cities Unit 1); 299 (Quad Cities Unit 2).
Brief Description of Amendments | The amendments revised the technical specifications (TSs) for each facility in accordance with Technical Specifications Task Force (TSTF) Traveler TSTF-599, Revision 1, “Eliminate Periodic Surveillance Test of Simultaneous Start of Redundant Diesel Generators.” Specifically, the change deleted a surveillance requirement in TS 3.8.1, “AC [alternating current] Sources—Operating,” to verify that diesel generators achieve a specific frequency and voltage within a specified time period when started simultaneously.
Public Comments Received as to Proposed NSHC (Yes/No) | No.
Constellation Energy Generation, LLC; Dresden Nuclear Power Station, Units 2 and 3; Grundy County, IL
Docket Nos. | 50-237, 50-249.
Amendment Date | January 22, 2026.
ADAMS Accession No. | ML26020A114.
Amendment Nos. | 289 (Unit 2), 282 (Unit 3).
Brief Description of Amendments | The amendments revised the technical specifications (TSs) to remove TS 3.3.7.2, “Mechanical Vacuum Pump Trip Instrumentation,” and relocate to an appropriate licensee-controlled document.
Public Comments Received as to Proposed NSHC (Yes/No) | No.
Constellation Energy Generation, LLC; Limerick Generating Station, Units 1 and 2; Montgomery County, PA
Docket Nos. | 50-352, 50-353.
Amendment Date | January 2, 2026.
ADAMS Accession No. | ML25325A355.
Amendment Nos. | 268 (Unit 1) and 230 (Unit 2).
Brief Description of Amendments | The amendments revised various technical specifications in order for the licensee to implement a planned modification that will replace existing safety-related analog control systems with a single digital plant protection system. In addition, the amendments changed the classification of the redundant reactivity control system from safety-related to non-safety-related, eliminated the automatic redundant reactivity control system feedwater runback function, eliminated several surveillance requirements, allowed the use of automated operator aids (or automated controls) from main control room, and added a new licensee-proposed license condition to the licenses concerning equipment qualification testing analysis associated with the plant protection system components.
Public Comments Received as to Proposed NSHC (Yes/No) | No.
Constellation Energy Generation, LLC; Quad Cities Nuclear Power Station, Units 1 and 2; Rock Island County, IL
Docket Nos. | 50-254, 50-265.
Amendment Date | January 29, 2026.
ADAMS Accession No. | ML26027A310.
Amendment Nos. | 304 (Unit 1) and 300 (Unit 2).
Brief Description of Amendments | The amendments revised the technical specifications (TSs) to remove TS 3.3.7.2, “Mechanical Vacuum Pump Trip Instrumentation,” and relocate to an appropriate licensee-controlled document.
Public Comments Received as to Proposed NSHC (Yes/No) | No.
Entergy Operations, Inc.; Arkansas Nuclear One, Units 1 and 2; Pope County, AR; Entergy Operations, Inc., System Energy Resources, Inc., Cooperative Energy, A Mississippi Electric Cooperative, and Entergy Mississippi, LLC; Grand Gulf Nuclear Station, Unit 1; Claiborne County, MS; Entergy Louisiana, LLC, and Entergy Operations, Inc.; River Bend Station, Units 1 and 2; West Feliciana Parish, LA; Entergy Operations, Inc.; Waterford Steam Electric Station, Unit 3; St. Charles Parish, LA
Docket Nos. | 50-313, 50-368, 50-416, 50-458, 50-382.
Amendment Date | January 21, 2026.
ADAMS Accession No. | ML26007A265.
Amendment Nos. | 285 (ANO-1), 338 (ANO-2), 240 (Grand Gulf), 219 (River Bend) and 277 (Waterford).
Brief Description of Amendments | The amendments revised certain definitions in each plants “Definitions” technical specification (TS) section and adds a new “Online Monitoring Program” in each plant's “Administrative Controls” TS section. Entergy Operations, Inc. proposed to use online monitoring (OLM) methodology as the technical basis to switch from time-based surveillance frequency for channel calibrations to a condition-based calibration frequency based on OLM results.
Public Comments Received as to Proposed NSHC (Yes/No) | No.
Florida Power & Light Company, et al.; St. Lucie Plant, Unit No. 2; St. Lucie County, FL
Docket No. | 50-389.
Amendment Date | January 26, 2026.
ADAMS Accession No. | ML26023A004.
Amendment No. | 214.
Brief Description of Amendment | The amendment revised the St. Lucie, Unit No. 2, Technical Specification 5.5.16, “Surveillance Frequency Control Program (SFCP),” to increase certain Surveillance Requirement (SR) frequencies to support a St. Lucie, Unit No. 2, transition to 24-month fuel cycles. The modification to the SFCP permits affected SR frequency increases in accordance with NRC Generic Letter 91-04, “Changes in Technical Specification Surveillance Intervals to Accommodate a 24-Month Fuel Cycle.” Additionally, this amendment addressed an increase in the maximum boric acid concentration in the refueling water tank and safety injection tanks and a change to the reactor vessel surveillance capsule withdrawal schedule, all needed to support an increase in fuel cycle length.
Public Comments Received as to Proposed NSHC (Yes/No) | No.
Florida Power & Light Company; Turkey Point Nuclear Generating Unit Nos. 3 and 4; Miami-Dade County, FL
Docket Nos. | 50-250, 50-251.
Amendment Date | January 6, 2026.
ADAMS Accession No. | ML25343A075.
Amendment Nos. | 304 (Unit 3) and 298 (Unit 4).
Brief Description of Amendments | The amendments extended certain surveillance intervals from 36 months to 48 months to support the transition to 24-month fuel cycles.
Public Comments Received as to Proposed NSHC (Yes/No) | No.
Nebraska Public Power District; Cooper Nuclear Station; Nemaha County, NE
Docket Nos. | 50-298.
Amendment Date | December 12, 2025.
ADAMS Accession No. | ML25343A098.
Amendment No. | 280.
Brief Description of Amendment | The amendment revised a surveillance requirement (SR) which currently requires operating the ventilation system for at least 10 continuous hours with the heaters operating at a frequency controlled in accordance with the Surveillance Frequency Control Program (SFCP). The SR is changed to require at least 15 continuous minutes of ventilation system operation at a frequency controlled in accordance with the SFCP. This amendment is consistent with NRC-approved Technical Specifications Task Force (TSTF) Traveler TSTF-522, Revision 0, “Revise Ventilation System Surveillance Requirements to Operate for 10 hours per Month” (ML100890316), dated March 30, 2010.
Public Comments Received as to Proposed NSHC (Yes/No) | No.
Northern States Power Company; Prairie Island Nuclear Generating Plant, Units 1 and 2; Goodhue County, MN
Docket Nos. | 50-282, 50-306.
Amendment Date | January 27, 2026.
ADAMS Accession No. | ML26015A145.
Amendment Nos. | 249 (Unit 1), 237 (Unit 2).
Brief Description of Amendment | The amendments adopted Technical Specification Task Force (TSTF) Traveler, TSTF-554, Revision 1, “Reactor Coolant Leakage Requirements,” which is an approved change to the Standard Technical Specifications. TSTF-554 revises the TS definition of Leakage, clarifies the requirements when pressure boundary leakage is detected and adds a Required Action when pressure boundary leakage is identified.
Public Comments Received as to Proposed NSHC (Yes/No) | No.
Pacific Gas and Electric Company; Diablo Canyon Nuclear Power Plant, Units 1 and 2; San Luis Obispo County, CA
Docket Nos. | 50-275, 50-323.
Amendment Date | January 20, 2026.
ADAMS Accession No. | ML25322A294.
Amendment Nos. | 255 (Unit 1) and 257 (Unit 2).
Brief Description of Amendments | The amendments revised technical specification completion times to be consistent with NUREG-1431, Revision 5, “Standard Technical Specifications Westinghouse Plants,” dated September 2021.
Public Comments Received as to Proposed NSHC (Yes/No) | No.
Southern Nuclear Operating Company, Inc.; Joseph M. Farley Nuclear Plant, Units 1 and 2; Houston County, AL
Docket Nos. | 50-348, 50-364
Amendment Date | January 8, 2026.
ADAMS Accession No. | ML25353A551.
Amendment Nos. | 258 (Unit 1) and 255 (Unit 2).
Brief Description of Amendments | The amendments revised Technical Specification Table 3.3.3-1, “Post Accident Monitoring Instrumentation” to delete function 10, Reactor Coolant System Subcooling Margin Monitor.
Public Comments Received as to Proposed NSHC (Yes/No) | No.
Vistra Operations Company LLC; Davis-Besse Nuclear Power Station, Unit 1; Ottawa County, OH
Docket No. | 50-346.
Amendment Date | January 16, 2026.
ADAMS Accession No. | ML26009A033.
Amendment No. | 310.
Brief Description of Amendment | The amendment added a one-time extension to the completion time for Technical Specification 3.8.1, “AC [Alternating Current] Sources-Operating,” Action A.3.
Public Comments Received as to Proposed NSHC (Yes/No) | No.
Wolf Creek Nuclear Operating Corporation; Wolf Creek Generating Station, Unit 1; Coffey County, KS
Docket No. | 50-482.
Amendment Date | January 14, 2026.
ADAMS Accession No. | ML25317A782.
Amendment No. | 246.
Brief Description of Amendment | The amendment revised Technical Specification 3.5.2, “ECCS [Emergency Core Cooling System]—Operating”; TS 3.5.3, “ECCS—Shutdown”; and added a new TS 3.6.8, “Containment Sumps,” to section 3.6, “Containment Systems.” The amendment incorporated Technical Specifications Task Force (TSTF) Traveler TSTF-567, Revision 1, “Add Containment Sump TS to Address GSI-191 [Generic Safety Issue-191] Issues,” dated August 2, 2017 (ML17214A813).
Public Comments Received as to Proposed NSHC (Yes/No) | No.

Dated: February 10, 2026.
For the Nuclear Regulatory Commission.
Hipólito González,
Acting Deputy Director, Division of Operating Reactor Licensing, Office of Nuclear Reactor Regulation.

[FR Doc. 2026-03048 Filed 2-13-26; 8:45 am]

BILLING CODE 7590-01-P